DEPARTMENT OF TRANSPORTATION

Federal Aviation Administration

14 CFR Part 39

[Docket No. FAA-2004-19002; Directorate Identifier 2003-NM-27-AD; Amendment 39-14639; AD 2006-12-13]

RIN 2120-AA64

Airworthiness Directives; Airbus Model A300 B2 and A300 B4 Series Airplanes; A300 B4-600, B4-600R, and F4-600R Series Airplanes; and Model C4-605R Variant F Airplanes (Collectively Called A300-600 Series Airplanes)

AGENCY: Federal Aviation Administration (FAA), Department of Transportation (DOT).

ACTION: Final rule.

SUMMARY: The FAA is superseding an existing airworthiness directive (AD), which applies to certain Airbus Model A300 and A300-600 series airplanes. That AD currently requires repetitive inspections to detect cracks in Gear Rib 5 of the main landing gear (MLG) attachment fittings at the lower flange, and repair, if necessary. That AD also requires modification of Gear Rib 5 of the MLG attachment fittings, which constitutes terminating action for the repetitive inspections. This new AD requires new repetitive inspections at reduced compliance times. This new AD also requires new repetitive inspections of certain areas of the attachment fittings that were repaired in accordance with the actions specified in the existing AD. This AD results from new service information that was issued by the manufacturer and mandated by the French airworthiness authority. We are issuing this AD to prevent fatigue cracking of the MLG attachment fittings, which could result in reduced structural integrity of the airplane.

DATES: This AD becomes effective July 18, 2006.

The Director of the Federal Register approved the incorporation by reference of certain publications listed in the AD as of July 18, 2006.

The Director of the Federal Register approved the incorporation by reference of certain publications, as listed in the AD, on April 12, 2000 (65 FR 12077, March 8, 2000).

The Director of the Federal Register approved the incorporation by reference of certain other publications, as listed in the AD, on October 20, 1999 (64 FR 49966, September 15, 1999).

ADDRESSES: You may examine the AD docket on the Internet at http://dms.dot.gov or in person at the Docket Management Facility, U.S. Department of Transportation, 400 Seventh Street, SW., Nassif Building, Room PL-401, Washington, DC.

For Model A300 B2 and A300 B4 series airplanes, contact Jacques Leborgne, Airbus Customer Service Directorate, 1 Rond Point Maurice Bellonte, 31707 Blagnac Cedex, France, fax (+33) 5 61 93 36 14, for service information identified in this AD. For Model A300-600 series airplanes, contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that supersedes AD 2000-05-07, amendment 39-11616 (65 FR 12077, March 8, 2000), and applies to certain Airbus Model A300 B2 and A300 B4 series airplanes; and Model A300-600 series airplanes. That supplemental NPRM was published in the Federal Register on March 27, 2006 (71 FR 15068). That supplemental NPRM proposed to reduce the compliance times for all inspections required by AD 2000-05-07; to require inspections in accordance with new revisions of the service bulletins; and to require new repetitive inspections of certain areas of the attachment fittings that were repaired in accordance with the actions specified in the existing AD.

Comments

We provided the public the opportunity to participate in the development of this AD. We have considered the comments received.

Request To Give Credit for Previous Revisions of Certain Service Bulletins

Airbus states that Service Bulletins A300-57-6088, Revision 03, dated March 13, 2003; and A300-57-0235, Revision 02, dated September 27, 1999; are not referenced in Table 3 of the supplemental NPRM for the terminating modification. Airbus notes that these service bulletins are listed in the document index of Docket No. FAA-2004-19002. Airbus reviewed the technical content of these two service bulletins and states that there is no technical reason why they should not be acceptable for complying with the actions proposed in the supplemental NPRM. Airbus therefore requests that we include these service bulletins in Table 3 of the final rule.

We partially agree. We agree that both service bulletins are acceptable for compliance with the corresponding actions proposed in the supplemental NPRM. We do not agree with adding these service bulletins to Table 3 of the final rule. Table 3 refers only to service bulletins that were required by either AD 2000-05-07 or the AD that it superseded, which was AD 99-19-26, amendment 39-11313 (64 FR 49966, September 15, 1999); or that are the latest revisions proposed for the supplemental NPRM. Table 6 of the supplemental NPRM refers to issues of service bulletins that are not the latest revisions, and were not required by the superseded ADs, but are still acceptable for compliance. Both Airbus Service Bulletin A300-57-6088, Revision 03, and A300-57-0235, Revision 02, are listed in Table 6 of the final rule. We have not changed the final rule in this regard.

Explanation of Editorial Changes to the Final Rule

We inadvertently removed words from the following paragraph of the supplemental NPRM: “§ 39.13 [Amended] 2. The Federal Aviation Administration (FAA) amends § 39.13 by adding the following new airworthiness directive (AD).” We have changed this paragraph in the final rule to include words that remove the original NPRM as follows: “§ 39.13 [Amended] 2. The Federal Aviation Administration (FAA) amends § 39.13 by removing amendment 39-11616 (65 FR 12077, March 8, 2000), and adding the following new airworthiness directive (AD).”

We have revised paragraph (i)(1) of the final rule to identify model designations as published in the most recent type certificate data sheet for the affected models.

Paragraphs (g)(2), (j)(2), (l), and (m) of the supplemental NPRM specify making repairs using a method approved by either the FAA or the Direction Générale de l'Aviation Civile (DGAC) (or its delegated agent). The European Aviation Safety Agency (EASA) has assumed responsibility for the airplane models subject to this AD. Therefore, we have revised paragraphs (g)(2), (j)(2), (l), and (m) of the final rule to specify making repairs using a method approved by either the FAA or the EASA (or its delegated agent).

Conclusion

We have carefully reviewed the available data, including the comment received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-cost registered airplanes | Fleet cost
Modification (required by AD 2000-05-07) | 70 | $65 | $10,270 | $14,820 | 164 | $2,430,480
Pre-modification inspections (new action), per inspection cycle | 6 | 65 | (¹) | ² 390 | 164 | ² 63,960
Post-modification inspections (new action), per inspection cycle | 2 | 65 | (¹) | ² 130 | 164 | ²21,320
¹ None.
² Per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11616 (65 FR 12077, March 8, 2000), and adding the following new airworthiness directive (AD):

2006-12-13 Airbus: Amendment 39-14639. Docket No. FAA-2004-19002; Directorate Identifier 2003-NM-27-AD.

Effective Date

(a) This AD becomes effective July 18, 2006.

Affected ADs

(b) This AD supersedes AD 2000-05-07, amendment 39-11616.

Applicability

(c) This AD applies to Airbus Model A300 B2-1A, B2-1C, B2K-3C, B2-203, B4-2C, B4-103, and B4-203 airplanes, as identified in Airbus Service Bulletin A300-57A0234, Revision 05, dated February 19, 2002; and Model A300 B4-601, B4-603, B4-620, B4-622, B4-605R, B4-622R, F4-605R, F4-622R, and C4-605R Variant F airplanes, as identified in Airbus Service Bulletin A300-57A6087, Revision 04, dated February 19, 2002; except airplanes on which Airbus Modification 11912 or 11932 has been installed; certificated in any category.

Unsafe Condition

(d) This AD was prompted by new service information that was issued by the manufacturer and mandated by the French airworthiness authority. We are issuing this AD to prevent fatigue cracking of the main landing gear (MLG) attachment fittings, which could result in reduced structural integrity of the airplane.

Compliance

(e) You are responsible for having the actions required by this AD performed within the compliance times specified, unless the actions have already been done.

Restatement of the Requirements of AD 2000-05-07

Repetitive Inspections

(f) Perform a detailed inspection and a high-frequency eddy current (HFEC) inspection to detect cracks in Gear Rib 5 of the MLG attachment fittings at the lower flange, in accordance with the Accomplishment Instructions of any applicable service bulletin listed in Table 1 and Table 2 of this AD, at the time specified in paragraph (f)(1) or (f)(2) of this AD. After April 12, 2000 (the effective date of AD 2000-05-07), only the service bulletins listed in Table 2 of this AD may be used. Repeat the inspections thereafter at intervals not to exceed 1,500 flight cycles, until paragraph (h), (i), or (k) of this AD is accomplished.

Table 1.—Revision 01 of Service Bulletins
Model | Airbus Service Bulletin | Revision level | Date
A300 B4-601, B4-603, B4-620, B4-622, B4-605R, B4-622R, F4-605R, F4-622R, and A300 C4-605R Variant F airplanes | A300-57-6087 | 01 | March 11, 1998.
A300 B2 and A300 B4 series airplanes | A300-57-0234 | 01 | March 11, 1998.

Table 2.—Further Revisions of Service Bulletins
Model | Airbus Service Bulletin | Revision level | Date
A300 B4-601, B4-603, B4-620, B4-622, B4-605R, B4-622R, FA-605R, F4-622R, and A300 C4-605R Variant F airplanes | A300-57A6087 | *02 | June 24, 1999.
|  | *03 | May 19, 2000.
|  | *04 | February 19, 2002.
A300 B2 and A300 B4 series airplanes | A300-57A0234 | 02 | June 24, 1999.
|  | *03 | September 2, 1999.
|  | *04 | May 19, 2000.
|  | *05 | February 19, 2002.
* Including Appendix 01.

(1) For airplanes that have accumulated 20,000 or more total flight cycles as of March 9, 1998 (the effective date of AD 98-03-06, amendment 39-10298): Inspect within 500 flight cycles after March 9, 1998.

(2) For airplanes that have accumulated less than 20,000 total flight cycles as of March 9, 1998: Inspect prior to the accumulation of 18,000 total flight cycles, or within 1,500 flight cycles after March 9, 1998, whichever occurs later.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Accomplishment of the initial detailed and HFEC inspections in accordance with Airbus Service Bulletin A300-57A0234 or A300-57A6087, both dated August 5, 1997, as applicable, is considered acceptable for compliance with the initial inspections required by paragraph (f) of this AD.

Repair

(g) If any crack is detected during any inspection required by paragraph (f) of this AD, prior to further flight, accomplish the requirements of paragraph (g)(1) or (g)(2) of this AD, as applicable.

(1) If a crack is detected at one hole only, and the crack does not extend out of the spotface of the hole, repair in accordance with the Accomplishment Instructions of the applicable service bulletin in Table 2 of this AD.

(2) If a crack is detected at more than one hole, or if any crack at any hole extends out of the spotface of the hole, repair in accordance with a method approved by the Manager, International Branch, ANM-116, Transport Airplane Directorate, FAA, or the European Aviation Safety Agency (EASA) (or its delegated agent).

Terminating Modification

(h) Prior to the accumulation of 21,000 total flight cycles, or within 2 years after October 20, 1999 (the effective date of AD 99-19-26, amendment 39-11313), whichever occurs later: Modify Gear Rib 5 of the MLG attachment fittings at the lower flange in accordance with the Accomplishment Instructions of the applicable service bulletin in Table 3 of this AD. After the effective date of this AD, only Revision 04 of Airbus Service Bulletin A300-57-6088, and Revisions 04 and 05 of Airbus Service Bulletin A300-57-0235 may be used. Accomplishment of this modification constitutes terminating action for the repetitive inspection requirements of paragraphs (f) and (i) of this AD.

Table 3.—Service Bulletins for Terminating Modification
Model | Airbus Service Bulletin | Revision level | Date
A300 B4-601, B4-603, B4-620, B4-622, B4-605R, B4-622R, F4-605R, F4-622R, A300 C4-605R Variant F airplanes | A300-57-6088 | * 01 | February 1, 1999.
|  | 02 | September 5, 2002.
|  | 04 | December 3, 2003.
A300 B2 and A300 B4 series airplanes | A300-57-0235 | * 01 | February 1, 1999.
|  | 03 | September 5, 2002.
|  | 04 | March 13, 2003.
|  | 05 | December 3, 2003.
* Including Appendix 01.

Note 3: Accomplishment of the modification required by paragraph (h) of this AD prior to April 12, 2000, in accordance with Airbus Service Bulletin A300-57-6088 or A300-57-0235, both dated August 5, 1998; as applicable; is acceptable for compliance with the requirements of that paragraph.

New Requirements of This AD

New Repetitive Inspections

(i) For airplanes on which the modification specified in paragraph (h) or (k) of this AD has not been done as of the effective date of this AD, perform a detailed and an HFEC inspection to detect cracks of the lower flange of Gear Rib 5 of the MLG at holes 43, 47, 48, 49, 50, 52, and 54, in accordance with the applicable service bulletin listed in Table 4 of this AD. Perform the inspections at the applicable time specified in paragraph (i)(1), (i)(2), (i)(3), or (i)(4) of this AD. Repeat the inspections thereafter at intervals not to exceed 700 flight cycles until the terminating modification required by paragraph (k) of this AD is accomplished. Accomplishment of the inspections per paragraph (i) of this AD, terminates the inspection requirements of paragraph (f) of this AD.

Table 4.—Service Bulletins for Repetitive Inspections
Model | Airbus Service Bulletin | Revision level | Date
A300 B4-601, B4-603, B4-620, B4-622, B4-605R, B4-622R, F4-605R, F4-622R, and C4-605R Variant F airplanes | A300-57A6087 | * 04 | February 19, 2002.
A300 B2-1A, B2-1C, B2K-3C, B2-203, B4-2C, B4-103, and B4-203 airplanes | A300-57A0234 | * 05 | February 19, 2002.
* Including Appendix 01.

(1) For Model A300 B2-1A, B2-1C, B2K-3C, B2-203, B4-2C, B4-103, and B4-203 airplanes; Model A300 B4-601, B4-603, B4-620, B4-622, B4-605R, B4-622R, F4-605R, F4-622R, and C4-605R Variant F airplanes; and Model C4-605R Variant F airplanes that have accumulated 18,000 or more total flight cycles as of the effective date of this AD: Within 700 flight cycles after the effective date of this AD.

(2) For Model A300 B2-1A, B2-1C, B2K-3C, and B2-203 airplanes that have accumulated less than 18,000 total flight cycles as of the effective date of this AD: Prior to the accumulation of 18,000 total flight cycles, or within 700 flight cycles after the effective date of this AD, whichever occurs later.

(3) For Model A300 B4-2C, B4-103, and B4-203 airplanes that have accumulated less than 18,000 total flight cycles as of the effective date of this AD: Prior to the accumulation of 14,500 total flight cycles, or within 700 flight cycles after the effective date of this AD, whichever occurs later.

(4) For Model A300 B4-601, B4-603, B4-620, B4-622, B4-605R, B4-622R, F4-605R, F4-622R, and C4-605R Variant F airplanes that have accumulated less than 18,000 total flight cycles as of the effective date of this AD: Prior to the accumulation of 11,600 total flight cycles, or within 700 flight cycles after the effective date of this AD, whichever occurs later.

Crack Repair

(j) If any crack is detected during any inspection required by paragraph (i) of this AD, prior to further flight, accomplish the requirements of paragraph (j)(1) and (j)(2) of this AD, as applicable.

(1) If a crack is detected at only one hole, and the crack does not extend out of the spotface of the hole, repair in accordance with Airbus Service Bulletin A300-57A0234, Revision 05, including Appendix 01, dated February 19, 2002 (for Model A300 B2-1A, B2-1C, B2K-3C, B2-203, B4-2C, B4-103, and B4-203 airplanes); or A300-57A6087, Revision 04, including Appendix 01, dated February 19, 2002 (for Model A300 B4-601, B4-603, B4-620, B4-622, B4-605R, B4-622R, F4-605R, F4-622R, and C4-605R airplanes); as applicable.

(2) If a crack is detected at more than one hole, or if any crack at any hole extends out of the spotface of the hole, repair in accordance with a method approved by the Manager, International Branch, ANM-116, or the EASA (or its delegated agent).

Terminating Modification

(k) For airplanes on which the terminating modification in paragraph (h) of this AD has not been accomplished before the effective date of this AD: At the earlier of the times specified in paragraphs (k)(1) and (k)(2) of this AD, modify Gear Rib 5 of the MLG attachment fittings at the lower flange. Except as provided by paragraph letter (l) of this AD, do the modification in accordance with the applicable service bulletin in Table 5 of this AD. This action terminates the repetitive inspections requirements of paragraphs (f) and (i) of this AD.

(1) Prior to the accumulation of 21,000 total flight cycles, or within 2 years after October 20, 1999, whichever is later.

(2) Within 16 months after the effective date of this AD.

Table 5.—Service Bulletins for Terminating Modification
Model | Airbus Service Bulletin | Revision level | Date
A300 B4-601, B4-603, B4-620, B4-622, B4-605R, B4-622R, F4-605R, F4-622R, and C4-605R Variant F airplanes | A300-57-6088 | 04 | December 3, 2003.
A300 B2-1A, B2-1C, B2K-3C, B2-203, B4-2C, B4-103, and B4-203 05 2003 airplanes | A300-57-0235 | 04 05 | March 13, 2003. December 3, 2003.

(l) Where the applicable service bulletin in paragraph (k) of this AD specifies to contact Airbus for modification instructions; or if there is a previously installed repair at any of the affected fastener holes; or if a crack is found when accomplishing the modification: Prior to further flight, modify in accordance with a method approved by the Manager, International Branch, ANM-116, or the EASA (or its delegated agent).

Post-Modification Inspections

(m) Within 700 flight cycles after doing the modification in accordance with paragraph (h), (k), or (l) of this AD, or within 6 months after the effective date of this AD, whichever occurs later, except as provided by paragraph (o) of this AD: Do a detailed and an HFEC inspection for cracks at holes 47 and 54 in the lower flange of Gear Rib 5, and do all related investigative and corrective actions before further flight, by doing all the actions specified in the Accomplishment Instructions of Airbus Service Bulletin A300-57A0246, including Appendix 01, dated May 20, 2005; or Airbus Service Bulletin A300-57A6101, including Appendix 01, dated May 20, 2005; as applicable. Where the applicable service bulletin specifies to contact Airbus for repair instructions: Prior to further flight, modify in accordance with a method approved by the Manager, International Branch, ANM-116, or the EASA (or its delegated agent). Repeat the inspection and related investigative and corrective actions thereafter at intervals not to exceed 700 flight cycles. If no crack is detected during the repeat inspection performed at or above 2,100 flight cycles after doing the modification in accordance with paragraph (h), (k), or (l) of this AD, then no further inspection is required. Except, at least one inspection is required after the accumulation of 2,100 flight cycles after installing the modification in accordance with paragraph (h) or (k) of this AD.

Actions Accomplished Per Previous Issues of the Service Bulletins

(n) Actions accomplished before the effective date of this AD, per the service bulletins listed in Table 6 of this AD, are considered acceptable for compliance with the corresponding action specified in this AD.

Table 6.—Previous Issues of Service Bulletins
Airbus Service Bulletin | Revision level | Date
A300-57-0235 | * 02 | September 27, 1999.
| 03 | September 5, 2002.
A300-57-6088 | 02 | September 5, 2000.
| 03 | March 13, 2003.
* Including Appendix 01.

Reporting

(o)(1) Although Airbus Service Bulletins A300-57A0234, A300-57-0235, A300-57A6087, A300-57-6088, A300-57A0246, and A300-57A6101, specify to submit certain information to the manufacturer, this AD does not include such a requirement, except as provided by paragraph (o)(2) of this AD.

(2) Where Airbus Service Bulletins A300-57A0246 and A300-57A6101 specify to submit a report of positive and negative findings of the post-modification inspection required by paragraph (m) of this AD, within 30 days after the effective date of this AD, submit a report only of the positive findings of post-modification inspections to Airbus, Customer Service Directorate, 1 Rond Point Maurice Bellonte, 31707 Blagnac Cedex, France. The report must include the inspection results, a description of any discrepancies found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

Alternative Methods of Compliance (AMOCs)

(p)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously per AD 2000-05-07 are approved as AMOCs with this AD.

Related Information

(q) French airworthiness directives 2003-318(B), dated August 20, 2003; and F-2005-113 R1, dated July 20, 2005; also address the subject of this AD.

Material Incorporated by Reference

(r) You must use the service information listed in Table 7 of this AD to perform the actions that are required by this AD, unless the AD specifies otherwise.

Table 7.—Material Incorporated by Reference
Airbus Service Bulletin | Revision level | Date
A300-57A0234 | 02 | June 24, 1999.
A300-57A0234 | * 03 | September 2, 1999.
A300-57A0234 | * 04 | May 19, 2000.
A300-57A0234 | * 05 | February 19, 2002.
A300-57A0246 | Original * | May 20, 2005.
A300-57A6087 | * 02 | June 24, 1999.
A300-57A6087 | * 03 | May 19, 2000.
A300-57A6087 | * 04 | February 19, 2002.
A300-57A6101 | Original * | May 20, 2005.
A300-57-0234 | 01 | March 11, 1998.
A300-57-0235 | * 01 | February 1, 1999.
A300-57-0235 | 03 | September 5, 2002.
A300-57-0235 | 04 | March 13, 2003.
A300-57-0235 | 05 | December 3, 2003.
A300-57-6087 | 01 | March 11, 1998.
A300-57-6088 | * 01 | February 1, 1999.
A300-57-6088 | 02 | September 5, 2002.
A300-57-6088 | 04 | December 3, 2003.
* Including Appendix 01.

(1) The Director of the Federal Register approved the incorporation by reference of the documents listed in Table 8 of this AD in accordance with 5 U.S.C. 552(a) and 1 CFR part 51.

Table 8.—New Material Incorporated by Reference
Airbus Service Bulletin | Revision level | Date
A300-57A0234 | * 04 | May 19, 2000.
A300-57A0234 | * 05 | February 19, 2002.
A300-57A0246 | Original * | May 20, 2005.
A300-57A6087 | * 03 | May 19, 2000.
A300-57A6087 | * 04 | February 19, 2002.
A300-57A6101 | Original * | May 20, 2005.
A300-57-0235 | 03 | September 5, 2002.
A300-57-0235 | 04 | March 13, 2003.
A300-57-0235 | 05 | December 3, 2003.
A300-57-6088 | 02 | September 5, 2002.
A300-57-6088 | 04 | December 3, 2003.
* Including Appendix 01.

(2) On April 12, 2000 (65 FR 12077, March 8, 2000), the Director of the Federal Register approved the incorporation by reference of the documents listed in Table 9 of this AD.

Table 9.—Material Previously Incorporated by Reference
Airbus Service Bulletin | Revision level | Date
A300-57A0234 | 02 | June 24, 1999.
A300-57A0234 | * 03 | September 2, 1999.
A300-57A6087 | * 02 | June 24, 1999.
* Including Appendix 01.

(3) On October 20, 1999 (64 FR 49966, September 15, 1999), the Director of the Federal Register approved the incorporation by reference of the documents listed in Table 10 of this AD.

Table 10.—Material Previously Incorporated by Reference
Airbus Service Bulletin | Revision level | Date
A300-57-0234 | 01 | March 11, 1998.
A300-57-0235 | * 01 | February 1, 1999.
A300-57-6087 | 01 | March 11, 1998.
A300-57-6088 | * 01 | February 1, 1999.
* Including Appendix 01.

(4) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 31, 2006.
Kalene C. Yanamura,
Acting Manager, Transport Airplane Directorate, Aircraft Certification Service.

[FR Doc. 06-5244 Filed 6-12-06; 8:45 am]

BILLING CODE 4910-13-P